DEPARTMENT OF DEFENSE

Office of the Secretary

[Docket ID DOD-2012-OS-0063]

Proposed Collection; Comment Request

AGENCY: Defense Security Service, DoD.

ACTION: Notice.

SUMMARY: In compliance with Section 3506 (c) (2) (A) of the Paperwork Reduction Act of 1995, the Defense Security Service (DSS) announces a proposed new public information collection and seeks public comment on the provisions thereof. Comments are invited on: (a) Whether the proposed collection is necessary for the proper performance of the functions of the agency, including whether the information shall have practical utility; (b) the accuracy of the agency's estimate of the burden of the information to be collected; (c) ways to enhance the quality, utility, and clarity of the information to be collected; and (d) ways to minimize the burden of the information collection on respondents, including through the use of automated collection techniques or other forms of information technology.

DATES: Consideration will be given to all comments received within August 10, 2012.

ADDRESSES: You may submit comments, identified by docket number and title, by any of the following methods:

• Federal Rule Making Portal: http://www.regulations.gov.

Follow the instructions for submitting comments.

• Mail: Federal Docket Management System Office 4800 Mark Center Drive, 2nd Floor, East Tower, Suite 02G09 Alexandria, VA 22350-3100.

Instructions: All submissions received must include agency name, docket number, and title for this Federal Register document. The general policy of comments and other submissions from members of the public is to make these submissions available for public viewing on the Internet at http://www.regulations.gov as they are received without change, including any personal identifiers or contact information.

FOR FURTHER INFORMATION CONTACT: To request more information on this proposed data collection or obtain a copy of the proposal and associated collection instrument, please write to: Defense Security Service, Center for Development of Security Excellence, Attn: Adriene Brown, 938 Elkridge Landing Road; Linthicum, MD 21090, or call Defense Security Service at (410) 865-6040.

Title, Associated Form, and OMB Number: Information Collection in Support of the DSS Security Education, Training, and Professionalization Programs; OMB Control Number 0704-TBD.

Needs and Uses: Pursuant to DoD Instruction (DoDI) 3305.13 (Section 5.2.4 and 5.2.5) and DoD Directive (DoDD) 5105.42 (Section 5.b), the Director of DSS is assigned as the functional manager responsible for the execution and maintenance of DoD security training. The DSS Director, under the authority of the Under Secretary of Defense for Intelligence, is required to:

• “utilize established training and education analysis, design, development, implementation, and evaluation processes to determine the most effective and efficient method of training delivery to include instructor-led, distance learning, blended-learning, job aids, or other means of instruction delivery to meet mission requirements” and

• “develop and conduct assessments and evaluations of DoD security training programs to determine the effectiveness, efficiency, and compliance within the Department of Defense.”

Needs assessment respondents will be asked to voluntarily provide information on organizational goals (e.g., desired performance), training conditions (e.g., technological environment), specific jobs and tasks, types of programs needed, and target audience.

Evaluation respondents will be asked to provide information on their type of organization, level of experience in the subject, relevancy of course to current job, satisfaction with training (e.g., registration, content, quality, delivery, facilities), increase in performance confidence and capability, availability of training, and usefulness of materials and reference documents.

Affected Public: Defense Security Service and other Federal government personnel; business or other for-profit organizations

Business or Other For-Profit Organizations

Total Annual Burden Hours: 5,886.

Number of Respondents: 26,068 (based on number of FY2011 students and their supervisors).

Responses per Respondent: 1.

Average Burden Hours per Respondent: .22579.

Defense Security Service & Other Federal Government Personnel

Total Annual Burden Hours: 15,384.

Number of Respondents: 67,032 (based on number of FY2011 students and their supervisors).

Responses per Respondent: 1.

Average Burden Hours per Respondent: .22950.

Frequency: One time and/or on occasion (e.g., when there is a request to develop training, when a student has completed a course, etc.)

SUPPLEMENTARY INFORMATION:

Summary of Information Collection

This effort will collect qualitative information through needs assessments and evaluations. Feedback will be used as guidance for developing and evaluating DSS security education, training, and professionalization programs.

Two information collection efforts are required. Responses to both collections are voluntary.

The needs assessment is conducted prior to the development of training to collect data that will, in turn, be used to prescribe an appropriate course of action in response to a compliance requirement or to a performance deficiency that has been identified. Some of the collection questions are uniform, while others are unique to the type of product or service that is being requested. We request information in several areas, including: organizational goals and desired performance, training conditions, technological environment, types of jobs and tasks, types of programs needed, and target audience.

Evaluations are completed after a course of action has been implemented to collect data used to gather information about: the unmet training needs of the population served; maintaining and/or improving the course, job aid, or security event; and/or the effectiveness of operations that provide programs and activities supporting the job performance of security professionals.

Defense Security Service, Center for Development of Security Excellence, management, instructional systems designers, and instructional, technical and support staff responsible for the design and development of security products and services, will be the users of the data collected from needs assessments and evaluations.

Dated: June 6, 2012.
Aaron Siegel,
Alternate OSD Federal Register Liaison Officer, Department of Defense.

[FR Doc. 2012-14112 Filed 6-8-12; 8:45 am]

BILLING CODE 5001-06-P